DEPARTMENT OF DEFENSE

Office of the Secretary

[DoD-2009-OS-0039]

RIN 0790-AI55

32 CFR Part 183

Defense Support to Special Events

AGENCY: Department of Defense.

ACTION: Proposed rule.

SUMMARY: This proposed rule establishes procedures and assigns responsibilities for Special Events, sets forth procedural guidance for the execution of Special Events support when requested by civil authorities or qualifying entities and approved by the appropriate DoD authority, or as directed by the President, within the United States, including the District of Columbia, the Commonwealth of Puerto Rico, the U.S. Virgin Islands, Guam, American Samoa, the Commonwealth of the Northern Mariana Islands, and any other territory or possession of the United States or any political subdivision thereof and elsewhere if properly approved.

DATES: Comments must be received by January 25, 2011.

ADDRESSES: You may submit comments, identified by docket number and or RIN number and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Carol Corbin, 703-693-8392.

SUPPLEMENTARY INFORMATION:

Executive Order 12866, “Regulatory Planning and Review”

It has been certified that 32 CFR part 183 does not:

(1) Have an annual effect on the economy of $100 million or more or adversely affect in a material way the economy; a section of the economy; productivity; competition; jobs; the environment; public health or safety; or State, local, or tribunal governments or communities;

(2) Create a serious inconsistency or otherwise interfere with an action taken or planned by another Agency;

(3) Materially alter the budgetary impact of entitlements, grants, user fees, or loan programs, or the rights and obligations of recipients thereof; or

(4) Raise novel legal or policy issues arising out of legal mandates, the President's priorities, or the principles set forth in this Executive Order.

Section 202, Pub. L. 104-4, “Unfunded Mandates Reform Act”

It has been certified that 32 CFR part 183 does not contain a Federal mandate that may result in the expenditure by State, local and tribunal governments, in aggregate, or by the private sector, of $100 million or more in any 1 year.

Public Law 96-354, “Regulatory Flexibility Act” (5 U.S.C. 601)

It has been certified that 32 CFR part 183 is not subject to the Regulatory Flexibility Act (5 U.S.C. 601) because it would not, if promulgated, have a significant economic impact on a substantial number of small entities. This rule establishes procedures and assigns responsibilities within DoD for Special Events in support of civil and non-governmental entities; therefore, it is not expected that small entities will be affected because there will be no economically significant regulatory requirements placed upon them.

Public Law 96-511, “Paperwork Reduction Act” (44 U.S.C. Chapter 35)

It has been certified that 32 CFR part 183 does not impose reporting or recordkeeping requirements under the Paperwork Reduction Act of 1995.

Executive Order 13132, “Federalism”

It has been certified that 32 CFR part 183 does not have federalism implications, as set forth in Executive Order 13132. This rule does not have substantial direct effects on:

(1) The States;

(2) The relationship between the National Government and the States; or

(3) The distribution of power and responsibilities among the various levels of Government.

List of Subjects in 32 CFR Part 183

Armed forces, Special events.

Accordingly, 32 CFR part 183 is proposed to be added to read as follows:

PART 183—DEFENSE SUPPORT OF SPECIAL EVENTS

Sec.
183.1 Purpose.
183.2 Applicability and scope.
183.3 Definitions.
183.4 Policy.
183.5 Responsibilities.
183.6 Procedures.

Authority: 2 U.S.C. 1966, 2 U.S.C. 1970, 10 U.S.C. 372-374, 10 U.S.C. 377, 10 U.S.C. 2012, 10 U.S.C. 2553-2555, 10 U.S.C. 2564, 18 U.S.C. 3056, 31 U.S.C. 1535-1536, 32 U.S.C. 502, 32 U.S.C. 508, Public Law 94-524, and Section 5802 of Public Law 104-208, as amended.

§ 183.1 Purpose.

This part:

(a) Establishes DoD policy, assigns responsibilities, and provides procedures for support of civil authorities and qualifying entities during the conduct of special events. This support will be referred to as “support to special events.”

(b) Implements provisions of DoD Directive 5111.1 (see http://www.dtic.mil/whs/directives/corres/pdf/511101p.pdf); Deputy Secretary of Defense Memorandum, “Delegations of Authority,” November 30, 2006 (see http://www.dtic.mil/whs/directives/corres/dir3.html); title 2, United States Code (U.S.C.) 1966; title 2 U.S.C. 1970; title 10 U.S.C. 372-374; title 10 U.S.C. 377; title 10 U.S.C. 2012; title 10 U.S.C. 2553-2555; title 10 U.S.C. 2564; title 18 U.S.C. 1385; title 18 U.S.C. 3056; title 31 U.S.C. 1535-1536; title 32 U.S.C. 502; title 32 U.S.C. 508; Public Law 94-524; Section 5802 of Public Law 104-208, as amended; and title 32, Code of Federal Regulations (CFR) part 185 addressing matters pertaining to Defense Support of Civil Authorities (DSCA) for special events and qualifying entities.

§ 183.2 Applicability and scope.

This part applies to the Office of the Secretary of Defense (OSD), the Military Departments, the Office of the Chairman of the Joint Chiefs of Staff and the Joint Staff, the Combatant Commands, the Office of the Inspector General of the Department of Defense, the Defense Agencies, the DoD Field Activities, and all other organizational entities in the Department of Defense (hereafter referred to collectively as the “DoD Components”).

§ 183.3 Definitions.

These terms and definitions are for the purpose of this part only.

Civil authorities. Defined in Joint Publication 1-02 (see http://www.dtic.mil/doctrine/dod_dictionary/).

Integrated Federal Support Overview (IFSO). A collaborative effort of the Special Events Working Group. The purpose of the Integrated Federal Support Overview is to inform the Secretary of Homeland Security and other appropriate senior Federal officials, including the Federal coordinator for the special event, of all the Federal activities and support in preparation for and execution of a special event. The IFSO facilitates the Federal coordinator's ability to lead a unified coordination group initially in case of an incident to support the Secretary of Homeland Security's incident management responsibilities. It also educates Federal interagency partners on Federal resources committed to the special event.

National special security event (NSSE). By definition, an NSSE is an Incident of National Significance as defined by the National Response Plan. These national or international events, occurrences, contests, activities, or meetings, which, by virtue of their profile or status, represent a significant target for deliberate attack; or, they can be the result of natural disasters or other emergency conditions, and therefore warrant additional preparation, planning, and mitigation efforts. The U.S. Secret Service (USSS), Federal Bureau of Investigation (FBI), and Federal Emergency Management Agency (FEMA) serve as the Federal agencies with lead responsibilities for NSSEs; other Federal agencies, including the Department of Defense, may provide support to the NSSE if authorized by law.

NSSE Executive Steering Committee. This group is established when the Secretary, DHS designates a specific event to be a NSSE. The group, led by the USSS, is comprised of Federal, state and local public safety and security officials, whose primary responsibility is to coordinate and develop a specific security plan for the designated NSSE.

Qualifying entity. A non-Governmental organization to which the Department of Defense may provide assistance by virtue of statute, regulation, policy, or other approval by the Secretary of Defense or his or her authorized designee.

Special event. An international or domestic event, contest, activity, or meeting, which by its very nature, or by specific statutory or regulatory authority, may warrant security, safety, and/or other logistical support or assistance from the Department of Defense. Event status is not determined by DoD and support may be requested by either civil authorities or non governmental entities. Support provided may be reimbursable.

Special event working group. A single forum designed to ensure comprehensive and coordinated Federal interagency awareness of, and appropriate support to, special events. The Special Event Working Group is co-chaired by representatives from the Department of Homeland Secuirty (DHS) (including the USSS and FEMA) and the FBI, and comprises representatives from over 40 Federal departments and agencies, including the Departments of Defense, Homeland Security, Justice, State, Energy, Labor, Health & Human Services, and Commerce and from the Office of the Director of National Intelligence and the Environmental Protection Agency. The Department of Defense representative on the Special Event Working Group is designated by the Assistant Secretary of Defense for Homeland Defense and Americas' Security Affairs (ASD(HD&ASA)). The Special Event Working Group develops the Special Events Awareness Report on an annual basis.

§ 183.4 Policy.

It is DoD policy that:

(a) Support to special events is a subset of DSCA.

(b) DoD capabilities may be used to provide support for international and domestic special events as authorized by law or DoD policy. DoD resources in support of special events may be provided only after the resources of all other relevant governmental and non-governmental entities are determined not to be available, unless there is a statutory exception or DoD is the only source of specialized capabilities. DoD support should not be provided if use of commercial enterprises would be more appropriate.

(c) The Department may support such events with personnel, equipment, and services in accordance with applicable laws, regulations, and interagency agreements. Most support shall be provided on a non-interference basis with careful consideration given to effects on readiness and current operations.

(d) DoD security and safety-related support for an event shall have priority over logistics assistance; however, logistics assistance may be provided if deemed appropriate and necessary, consistent with authorizing statutes and applicable policy guidance.

(e) Funding for special events is subject to the following:

(1) DoD may receive separate funding or authority to provide support to specific special events.

(2) Support to special events for which the Department of Defense does not receive appropriations or for which DoD funds are not available for such support must be approved by the Secretary of Defense and must be provided on a reimbursable basis in accordance with title 10 U.S.C. 372-374; title 10 U.S.C. 377; title 10 U.S.C. 2012; title 10 U.S.C. 2553-2555; title 10 U.S.C. 2564; or title 31 U.S.C. 1535-1536, or other applicable statutes.

(3) Reimbursement for DoD support provided to civilian law enforcement agencies during special events is required, in accordance with title 10 U.S.C. 377, unless the Secretary of Defense elects to waive reimbursement after determining that the support:

(i) Is provided in the normal course of military training or operations, or

(ii) Results in a benefit to the personnel providing the support that is substantially equivalent to that which would otherwise be obtained from military operations or training.

(4) Security and safety of special events are responsibilities shared by Federal, State, and local authorities. If Federal funds will be provided to State or local authorities to offset the costs of enhanced security and public safety for special events and if State or local officials request the employment of National Guard personnel in a Federal pay status, States shall be encouraged to use those funds to employ those National Guard personnel in a State pay status or to reimburse the Department of Defense for costs related to the employment of the National Guard personnel in a Federal pay status.

(f) DoD Components shall provide support to civil authorities or qualifying entities for special events only as authorized in this part. This does not apply to installation commanders or heads of DoD Components providing localized support to a special event under the auspices of community relations, public outreach, or recruitment efforts pursuant to DoD Directive 5410.18 (see http://www.dtic.mil/whs/directives/corres/pdf/541018p.pdf) and DoD Instruction 5410.19 (see http://www.dtic.mil/whs/directives/corres/pdf/541019p.pdf) or other similar authority.

(g) DoD support to special events that includes support to civilian law enforcement officials must comply with DoD Directive 5525.5 (see http://www.dtic.mil/whs/directives/corres/pdf/552505p.pdf).

§ 183.5 Responsibilities.

(a) The Under Secretary of Defense for Policy (USD(P)) shall establish policy for and facilitate the interagency coordination of special events with Federal, State, and local agencies; and qualifying entities and the DoD Components, as required.

(b) The ASD(HD&ASA), under the authority, direction, and control of the USD(P), shall:

(1) In coordination with the Chairman of the Joint Chiefs of Staff (CJCS), oversee the management and coordination of DoD support to special events including, without limitation, events covered under Title 10 U.S.C. 2564.

(2) Serve as the principal civilian advisor to the Secretary of Defense and the USD(P) on DoD support to special events.

(3) In accordance with DoD Directive 5111.13 (see http://www.dtic.mil/whs/directives/corres/pdf/511113p.pdf), approve requests for assistance from civil authorities and qualifying entities for DoD support to special events. Such requests shall be coordinated with appropriate offices in the OSD, the CJCS, and the heads of appropriate DoD Components. The ASD(HD&ASA) will immediately notify the Secretary of Defense when this authority is exercised.

(4) Coordinate, or consult on, special event support policy with other Federal departments and agencies, as appropriate.

(5) Develop, coordinate, and oversee the implementation of DoD support to special events for the Department of Defense.

(6) Through the CJCS, monitor the activation, deployment, and employment of DoD personnel, facilities, and other resources involved in DoD support to special events.

(7) Coordinate DoD support to special events with the General Counsel of the Department of Defense (GC, DoD) and the Under Secretary of Defense (Comptroller)/Chief Financial Officer (USD(C)/CFO).

(8) Ensure information relating to all aspects of special events receives the broadest possible dissemination using all approved media as appropriate and in coordination with the Assistant Secretary of Defense for Public Affairs (ASD(PA)).

(9) Represent DoD regarding special events to other Federal departments and agencies, State and local authorities, and qualifying entities, including designating the DoD representatives for the working groups identified in § 183.6(b) of this part.

(10) Manage, in conjunction with the USD(C)/CFO, the Support for International Sporting Competitions (SISC) Defense Account.

(11) In accordance with section 5802 of Public Law 104-208, as amended, submit notification to the congressional defense committees of the Department's plans to obligate funds in the SISC Defense Account.

(12) In accordance with title 10 U.S.C. 2564 submit an annual report to Congress, no later than January 30 of each year following a year in which the Secretary of Defense provides assistance under title 10 U.S.C. 2564, detailing DoD support to certain sporting competitions.

(c) The Under Secretary of Defense for Personnel and Readiness (USD(P&R)) shall coordinate on DoD support to special events and, in coordination with the CJCS, provide advice regarding the effect the requested support will have on readiness and military operations.

(d) The USD(C)/CFO shall:

(1) Coordinate on DoD support to special events and provide advice regarding the effect on the DoD budget and financial resources.

(2) Maintain the SISC account in conjunction with the ASD(HD&ASA).

(e) The Under Secretary of Defense for Acquisition, Technology, and Logistics (USD(AT&L)) shall coordinate on DoD support to special events that includes logistical support.

(f) The GC, DoD shall coordinate and provide legal counsel on DoD support to special events.

(g) The ASD(PA) shall provide policy guidance and review, coordinate, and approve requests for ceremonial and entertainment support for special events in accordance with DoD Directives 5122.05 (see http://www.dtic.mil/whs/directives/corres/pdf/512205p.pdf) and 5410.18 and DoD Instruction 5410.19.

(h) The Executive Secretary of the Department of Defense shall:

(1) Act as the initial point of contact for the Department of Defense pertaining to requests addressed to the Secretary of Defense, Deputy Secretary of Defense, or the Executive Secretary for DoD support for special events.

(2) Upon receipt of such a request for DoD support to a special event, determine who within the Department has the lead action on the Request for Assistance (RFA). Determine if the RFA is for a single capability for which a DoD Component is the office of primary responsibility (OPR) or serves as a DoD Executive Agent; and if so, forward the request to that DoD Component for action and notify ASD(HD&ASA) and the CJCS. All RFAs will be distributed to the ASD(HD&ASA) and the CJCS.

(i) The CJCS shall:

(1) Provide planning guidance to DoD Components for all special events for which DoD support may require the employment of military forces or centralized command and control.

(2) Review all requests for DoD support to special events, and, in coordination with the USD(P&R), provide advice on the effect the requested support will have on readiness and military operations.

(3) Prepare, staff, and issue orders and messages on DoD support to special events that has been approved by authorized DoD officials.

(4) Issue guidance to the Combatant Commanders on the implementation of this part.

(5) Process requests for DoD support to special events.

(6) Maintain sufficient staff to manage the day-to-day operational aspects of DoD support to special events.

(i) Establish and operate a system for delivering DoD assets to authorized recipients and for recovering loaned assets at the conclusion of the event.

(ii) Ensure the civil authorities and qualifying entities authorized to accept DoD assets provide a surety bond or other suitable insurance protection to cover the cost of lost, stolen, or damaged DoD property.

(iii) Plan and program for the life-cycle replacement of special events equipment procured under title 10 U.S.C. 372-374; title 10 U.S.C. 377; title 10 U.S.C. 2012; title 10 U.S.C. 2553-2555; and title 10 U.S.C. 2564.

(iv) When necessary, procure goods and services through contracting.

(8) Administer the expenditure of appropriated funds, and ensure that DoD is reimbursed for its DoD support to special events when required by law or DoD policy.

(i) With the assistance of DoD Components, provide cost estimates of DoD support to a special event that is under consideration for approval.

(ii) Upon approval, administer the execution of funding for DoD support to special events.

(iii) At the conclusion of DoD support to a special event, collect and provide a financial accounting for all DoD funds expended in support of that special event.

(9) Establish and maintain effective liaison with DoD Components for the timely exchange of information about special event projects.

(10) Provide other support to special events as directed.

(j) The Heads of the DoD Components shall:

(1) Designate and maintain an OPR for special events or a special events coordinator and provide that OPR designation and contact information to the CJCS within 60 days of the publication of this part; and provide updates to OPR designation and contact information within 30 days of a change.

(2) Provide personnel, equipment, and support to special events as directed.

(3) Ensure personnel supporting special events comply with applicable antiterrorism and force protection training and standards.

(4) Provide other support to special events as directed.

(k) The Chief, National Guard Bureau (NGB), under the authority, direction, and control of the Secretary of Defense through the Secretary of the Army and the Secretary of the Air Force, shall:

(1) Serve as the channel of communication between:

(i) The Secretary of Defense and the heads of the DoD Components (including the Secretary of the Army and the Secretary of the Air Force), and

(ii) The States on all matters pertaining to National Guard involvement in DoD support to special events.

Note to paragraph (k)(1): Direct liaison between the entities in paragraphs (j)(1)(i) and (j)(1)(ii) of this section should occur only in an emergency when time does not permit compliance with this part. In each such instance, the Chief, NGB, should be informed of the communication.

(2) Annually assess the readiness of the National Guard of the States to participate in DoD support to special events, and report on this assessment to the Secretary of Defense, the Secretaries of the Army and the Air Force, the USD(P&R), the ASD(HD&ASA), the Assistant Secretary of Defense for Reserve Affairs, the CJCS, and appropriate Combatant Commanders.

(3) Participate in the Joint Staff capability-based planning and assessments, the Joint Capabilities Integration and Development System, and the DoD planning, programming, budgeting and execution assessment for all actions pertaining to National Guard participation in DoD support to special events.

(4) Facilitate and deconflict the planning and use of National Guard forces among the States to ensure that adequate and balanced forces are available and responsive for DoD special event support, consistent with national security objectives and priorities.

§ 183.6 Procedures.

(a) General Provisions. (1) This section provides the basic procedures for DoD support to special events.

(2) As appropriate, amplifying procedures regarding DoD support to special events shall be published separately and maintained by the Office of the ASD(HD&ASA) and released as needed in the most effective medium consistent with DoD Directive 8320.02 (see http://www.dtic.mil/whs/directives/corres/pdf/832002p.pdf).

(b) Special Event Process.

(1) Engagement.

(i) Engagement may be initiated by the Department of Defense, civil authorities, or qualifying entities. If the initial engagement is not a written RFA, representatives from ASD(HD&ASA) and the Joint Staff will confer to determine actual requirements.

(ii) Engagement may involve informational briefings and meetings between DoD representatives and special event organizers, civil authorities, or qualifying entities. These informal engagements may result in non-DoD entities submitting an RFA to the Executive Secretary of the Department of Defense, requesting DoD support for a special event.

(iii) Once an RFA is received, it will be sent to ASD(HD&ASA) and the CJCS simultaneously for staffing and recommendation. Additional engagement with the requestor may be required to quantify the scope and magnitude of the support requested.

(2) Planning.

(i) The direction and focus of DoD special-event-planning will depend on the nature of the event and scope and magnitude of the support requested or anticipated. International events may require additional planning, procedures, and coordination with the government of the host country.

(ii) For NSSEs and events that may require the employment of military forces or centralized command and control, the CJCS will issue a planning order, requesting a Combatant Commander to initiate planning and notify potential supporting commands/organizations and the Chief, NGB, as appropriate. When possible, established CJCS-directed planning procedures will be used for the Combatant Commander to provide an assessment and request for forces.

(A) The NSSE designation process generally is initiated by a formal written request to the Secretary of Homeland Security by the State or local government hosting the event. In other situations where the event is Federally sponsored, an appropriate Federal official will make the request.

(B) Once the request is received by the DHS, the USSS will send an NSSE questionnaire to the responsible host official for completion. The request, completed questionnaires, and other supporting information are reviewed by the NSSE Working Group, including the DoD member of the NSSE Working Group, which provides a recommendation to the Secretary of Homeland Security regarding NSSE designation.

(C) The Secretary of Homeland Security makes the final determination to designate an event as an NSSE pursuant to Homeland Security Presidential Directive 7 (see http://www.dhs.gov/xabout/laws/gc_1214597989952.shtm). Once an event is designated an NSSE, certain other Federal departments and agencies have statutory duties and responsibilities.

(iii) There are numerous events where DoD support should be anticipated and a planning order issued to the appropriate Combatant Commander. These include, but are not limited to:

(A) The President's State of the Union Address or other addresses to a Joint Session of Congress.

(B) Annual meetings of the United Nations General Assembly.

(C) National Presidential nominating conventions.

(D) Presidential inaugural activities.

(E) International summits or meetings.

(F) State funerals.

(G) The National Boy Scout Jamboree.

(H) Certain international or domestic sporting competitions.

(iv) There are other events that the Department of Defense supports that do not involve the assignment of military forces or centralized command and control by Combatant Commanders, which include planning requirements by the host organizations. These include, but are not limited to:

(A) Military Department or Service-sponsored events, such as:

(1) The Marine Corps Marathon.

(2) The Army 10-Miler.

(3) Navy Fleet Weeks.

(4) Installation or Joint Service Open Houses.

(5) Service or Joint Air Shows.

(B) Community relations activities authorized in accordance with DoD Directive 5122.05 and DoD Instruction 5410.19.

(v) DoD may provide support to certain sporting events that are included under subsection (c) of section 2564 of title 10 U.S.C. by providing technical, contracting, and specialized equipment support. These events may be funded by title 10 U.S.C. 2564 and include:

(A) The Special Olympics.

(B) The Paralympics.

(C) Sporting events sanctioned by the United States Olympic Committee (USOC) through the Paralympic Military Program.

(D) Any international or domestic paralympic sporting event that are held in the United States or its territories that is governed by the International Paralympic Committee and sanctioned by the USOC for which:

(1) Participation exceeds 100 amateur athletes; and

(2) At least 10 percent of the athletes participating in the sporting event are members or former members of the armed forces.

(3) At least 10 percent of the athletes participating in the sporting event are either members or former members of military services who are participating in the sporting event based upon an injury or wound incurred in the line of duty in the armed force or veterans who are participating in the sporting event based upon a service-connected disability.

(vi) Planning for DoD support to the Olympics and certain other sporting events requires additional considerations.

(A) Subsections (a) and (b) of section 2564 of title 10 U.S.C. authorize the Secretary of Defense to provide assistance for the Olympics and certain other sporting events. Unless the event meets the specific requirements stated in paragraph (b)(2)(v) of this section, the Attorney General must certify that DoD security and safety assistance is necessary to meet essential security and safety needs of the event.

(B) The Department, led by the ASD(HD&ASA), will collaborate with the CJCS, the Department of Justice, including the FBI, and other appropriate DoD Components and Federal departments or agencies, usually as part of a Joint Advisory Committee (JAC), to provide a recommendation to the Attorney General on what categories of support the Department of Defense may be able to provide to meet essential security and safety needs of the event.

(C) Support other than safety and security may be authorized for sporting events, but only to the extent that:

(1) Such needs cannot reasonably be met by a source other than the Department of Defense.

(2) Such assistance does not adversely affect military preparedness.

(3) The requestor of such assistance agrees to reimburse to the Department of Defense, in accordance with the provisions of title 10 U.S.C. 372-374, title 10 U.S.C. 377, title 10 U.S.C. 2012, title 10 U.S.C. 2553-2555, title 10 U.S.C. 2564 and other applicable provisions of law.

(vii) Types of support that the Department of Defense can provide include, but are not limited to:

(A) Aviation.

(B) Communications (e.g., radios, mobile telephones, signal integrators);

(C) Security (e.g., magnetometers, closed-circuit televisions, perimeter alarm systems, undercarriage inspection devices).

(D) Operations and Command Centers (e.g., design and configuration, video walls).

(E) Explosive Ordnance Detection and Disposal (technical advice, Explosive Ordnance Disposal teams, Explosive Detector Dog, dog teams).

(F) Logistics (transportation, temporary facilities, food, lodging).

(G) Ceremonial support (in coordination with the ASD(PA)).

(H) Chemical, biological, radiological, and nuclear threat identification, reduction, and response capabilities.

(I) Incident response capabilities (in coordination with the Department of Justice, the DHS, the Department of Health and Human Services, and in consultation with appropriate State and local authorities).

(viii) DoD personnel support to special events is provided using a total force employment concept that may include Active Duty Reserve Component military personnel (including National Guard forces performing duty pursuant to title 32 U.S.C. 502, DoD civilian personnel, and DoD contractor personnel.

(A) National Guard personnel conducting support to special events while on State Active Duty, or in a militia status, at the direction of their Governor or Adjutant General, are not considered to be providing DoD support to special events.

(B) This part does not limit or affect DoD and National Guard personnel volunteering to support special events during their non-duty time. This volunteer support is not considered as part of DoD support to special events. Volunteers are prohibited from obligating or using DoD resources to support a special event while in a volunteer status except as authorized by separate statute or authority.

(3) Coordination. (i) Coordination of DoD support to special events will likely take place simultaneously with engagement and planning; operate across the full spectrum of strategic, operational, and tactical levels; and occur internally among DoD Components and externally with supported civil authorities and qualifying entities.

(A) Policy coordination between the Department of Defense and other Federal departments is the responsibility of ASD(HD&ASA). Other DoD Components may send representatives to these meetings with the prior concurrence of ASD(HD&ASA). Standing Departmental-level special events coordination meetings include:

(1) USSS-led NSSE Working Group.

(2) DHS-led Special Events Working Group.

(3) Department of State, Bureau of Diplomatic Security-led International Sporting Event Group.

(B) Coordination Below the Strategic Level. (1) Coordination within the Department is led by the ASD(HD&ASA) and is facilitated by the CJCS for the Combatant Commands and other Joint Commands and by other DoD Component Heads for their constituent elements.

(2) The CJCS will work with the Service Chiefs, Chief NGB, and the heads of DoD Components when subject matter expertise is needed for the event organizers. This will be based upon location and other criteria, as needed.

(ii) Inputs to the DHS-produced Integrated Federal Support Overview(IFSO) will be solicited by the CJCS and sent to the ASD(HD&ASA) for consolidation and deconfliction prior to final submission to DHS. DoD Component Heads not tasked by the Joint Staff will submit their input directly to ASD(HD&ASA).

(iii) RFAs for DoD support will adhere to the following:

(A) An RFA for DoD support to a special event may be made by Federal, State, or local civil authorities, or by other qualifying entities.

(B) RFAs will be in writing and addressed to the Secretary of Defense, the Deputy Secretary of Defense or the Executive Secretary of the Department of Defense, 1000 Defense, Pentagon, Washington, DC 20301-1000. Components who receive RFAs directly from the requestor will immediately forward them to the Executive Secretary for disposition, distribution, and tracking.

(C) The Executive Secretary will determine who within the Department has the lead action on the RFA. At a minimum, the RFA will be distributed to the ASD(HD&ASA) and the CJCS. If the RFA is for a single capability that a Component is the OPR or for which has Executive Agency. The Executive Secretary will send the RFA to that Component for action, and will provide an information copy to the ASD(HD&ASA) and the CJCS.

(D) Vetting of RFAs will be in accordance with DoD's Global Force Management process and consistent with criteria published in 32 CFR part 185.

(E) Unless directed otherwise, the Executive Secretary will communicate the Department's decision on support to a special event to the requesting authorities.

(4) Execution. Execution of DoD support to special events is a shared responsibility. The scope and magnitude of the support being provided will determine the OPR and level of execution.

(i) When joint military forces or centralized command and control of DoD support to a special event are anticipated or required, a Combatant Commander shall be identified as the Supported Commander in a properly approved order issued by the CJCS. The designated Combatant Command shall be the focal point for execution of DoD support to that special event with other DoD Components in support. Reporting requirements shall be in accordance with the properly approved order issued by the CJCS and standing business practices.

(ii) When there are no military forces required and no need for centralized command and control, DoD support to special events shall be executed by the CJCS or the head of a DoD Component, as designated in a properly approved order or message issued by the CJCS. Oversight of DoD support will be provided by the ASD(HD&ASA).

(5) Recovery. (i) Durable, non-unit equipment, procured by the Department of Defense to support a special event, shall be retained by the CJCS for use during future events in accordance with § 183.5(h)(7) of this part.

(ii) An After-Action Report shall be produced by the Combatant Command or OPR and sent to ASD(HD&ASA) and the CJCS within 60 days of completion of the event.

Dated: November 15, 2010.
Patricia L. Toppings,
OSD Federal Register Liaison Officer, Department of Defense.

[FR Doc. 2010-29764 Filed 11-24-10; 8:45 am]

BILLING CODE 5001-06-P